DEPARTMENT OF ENERGY

Federal Energy Regulatory Commission

[Docket No. RP00-421-000]

Trunkline Gas Company; Notice of Report

August 3, 2000.

Take notice that on July 31, 2000, Trunkline Gas Company (Trunkline) tendered for filing its Annual Miscellaneous Revenue Flowthrough Surcharge Adjustment filed in accordance with section 23, of the General Terms and Conditions (GT&C) of its FERC Gas Tariff, First Revised Volume No. 1.

Trunkline states that the purpose of this filing is to comply with section 23 of the GT&C of its FERC Gas Tariff, First Revised Volume No. 1 which requires that at least 30 days prior to the effective date of adjustment, Trunkline shall make a filing with the Commission to reflect the adjustment, if any, required to Trunkline's Base Transportation Rate to reflect the result of the Miscellaneous Revenue Flowthrough Surcharge Adjustment. Trunkline states that no adjustment is required to the Base Transportation Rates.

Trunkline further states that copies of this filing are being served on all affected customers and applicable state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed on or before August 10, 2000. Protests will be considered by the Commission in determining the appropriate action to be taken, but will not serve to make protestants parties to the proceedings. Any person wishing to become a party must file a motion to intervene.

Copies of this filing are on file with the Commission and are available for public inspection in the Public Reference Room. This filing may be viewed on the web at http://www.ferc.fed.us/online/rims.htm (call 202-208-2222 for assistance).

David P. Boergers,
Secretary.

[FR Doc. 00-20069 Filed 8-8-00; 8:45 am]

BILLING CODE 6717-01-M